DEPARTMENT OF LABOR

Employment and Training Administration

[TA-W-50,607]

Nortel Networks, GSM E3 Department, Research Triangle Park, NC; Notice of Termination of Investigation

Pursuant to section 221 of the Trade Act of 1974, as amended, an investigation was initiated on January 22, 2003 in response to a worker petition filed on behalf of workers at Nortel Networks, GSM E3 Department, Research Triangle Park, North Carolina.

The petitioning group of workers is covered by an earlier petition filed on January 7, 2003 (TA-W-50,507) that is the subject of an ongoing investigation for which a determination has not yet been issued. Further investigation in this case would duplicate efforts and serve no purpose; therefore, the investigation under this petition has been terminated.

Signed at Washington, DC, this 6th day of February, 2003.
Richard Church,
Certifying Officer, Division of Trade Adjustment Assistance.

[FR Doc. 03-5560 Filed 3-7-03; 8:45 am]

BILLING CODE 4510-30-P